DEPARTMENT OF THE TREASURY

Customs Service

Extension of General Program Test Regarding Post Entry Amendment Processing

AGENCY: Customs Service, Treasury.

ACTION: General notice.

SUMMARY: This document announces that the general program test regarding post entry amendment processing is being extended for a period of one year. The test will continue to operate in accordance with the notice published in the Federal Register on November 28, 2000.

DATES: The test allowing post entry amendment to entry summaries is extended to December 31, 2002.

FOR FURTHER INFORMATION CONTACT: Bruce Ingalls, Chief, Entry and Drawback Management Branch, Office of Field Operations (202/927-1082).

SUPPLEMENTARY INFORMATION: Customs announced and explained the post entry amendment processing test in a general notice document published in the Federal Register (65 FR 70872) on November 28, 2000. That notice announced that the test would commence no earlier than December 28, 2000, and run for approximately one year. In fact, the test is scheduled to operate through December 31, 2001.

Briefly, the test allows importers to amend entry summaries (not informal entries) prior to liquidation by filing with Customs either an individual amendment letter upon discovery of an error or a quarterly tracking report covering any errors that occurred during the quarter. The previously published general notice explained how to file post entry amendments for revenue related errors and non-revenue related errors, and the consequences of misconduct by importers during the test. It also provided that there are no application procedures or eligibility requirements. This document announces that the test is being extended to December 31, 2002. To participate in the test, an importer need only follow the procedure set forth in the previously published general notice.

Comments received in response to the previously published general notice have been reviewed and the test is being evaluated. Changes to the test based on the comments and the evaluation will be announced in the Federal Register in due course. The test may be further extended if warranted. Additional information on the post entry amendment procedure can be found under “Importing and Exporting” at http://www.customs.gov.

Dated: December 31, 2001.
Bonni G. Tischler,
Assistant Commissioner, Office of Field Operations.

[FR Doc. 02-288 Filed 1-4-02; 8:45 am]

BILLING CODE 4820-02-P